DEPARTMENT OF THE INTERIOR

National Park Service

General Management Plan; Joshua Tree National Park; San Bernardino and Riverside Counties, CA; Notice of Intent To Prepare Environmental Impact Statement

SUMMARY: Pursuant to the National Environmental Policy Act of 1969, 42 U.S.C. 4332(C), the National Park Service is updating the General Management Plan (GMP) for Joshua Tree National Park, California. The new GMP will update the overall direction for the park approved in 1995, refining goals and objectives for managing the park over the next 15 to 20 years. The GMP will prescribe desired resource conditions and visitor experiences that are to be achieved and maintained throughout the park based on such factors as the park's purpose, significance, special mandates and the body of laws and policies directing park management and resource analysis, other designations such as establishment of 594,502 acres by Congress as Wilderness, and the spectrum of public expectations and concerns. The GMP also will outline the kinds of resource management activities, visitor activities, and developments that would be appropriate and sustainable in the park in the future.

SUPPLEMENTARY INFORMATION: A range of reasonable alternatives for managing the park will be developed by the National Park Service (NPS) through this conservation planning and environmental impact analysis process, and which will include, at a minimum, no-action and agency-preferred alternatives. Major issues the GMP will address include changes in visitor use patterns, adequacy and sustainability of existing visitor facilities and park operations, management of natural and cultural resources, collaboration and partnership opportunities, Wilderness stewardship goals, evaluation of park boundaries, and pro-active planning in response to climate change. The environmental impact statement (EIS) will evaluate the potential environmental consequences of the alternative management approaches and identify all possible measures to avoid or minimize harm; an “environmentally preferred” alternative will also be identified.

Early in this scoping period the NPS will distribute a GMP newsletter to neighboring communities, state and federal agencies, associated American Indian tribes, County commissioners, local organizations, researchers and institutions, the Congressional delegation, and other interested members of the public. In addition, five public scoping meetings will be hosted during May 17-21, 2010, to provide opportunities for interested persons to learn about the proposed update of the GMP. Specific times and locations will be announced in the local and regional media, and details will be included in the GMP newsletter and also posted on the project Web site http://www.nps.gov/jotr (details may also be obtained by telephone, as noted below).

Scoping Comments and Dates: General park information requests or requests to be added to the GMP mailing list should be directed to Karin Messaros, Management Assistant, Joshua Tree National Park, Joshua, 74485 National Park Drive, Twentynine Palms, California 92277. Telephone: (706) 367-5512. General information about Joshua Tree National Park is also available on the internet at http://www.nps.gov/jotr. If you wish to provide relevant information or suggest any issues to be considered in updating the GMP, you may submit your comments by any one of several methods: (1) Mail comments to Management Assistant Karen Messaros (address as noted above); (2) transmit via the internet to karin_messaros@nps.gov or http://parkplanning.nps.gov/jotr; (3) hand-deliver comments to park headquarters at Joshua Tree National Park, 74485 National Park Drive, Twentynine Palms, California 92277, or deliver at any of the public meetings. All written comments must be postmarked or transmitted not later than August 31, 2010. Before including your address, phone number, e-mail address, or other personal identifying information in your comment, you should be aware that your entire comment—including your personal identifying information—may be made publicly available at any time. While you can ask us in your comment to withhold your personal identifying information from public review, we cannot guarantee that we will be able to do so.

Decision Process: Following due consideration of all public and agency comments as may be forthcoming; a draft EIS/GMP will be prepared. Availability would be announced through the Federal Register as well as via direct mailing, Web site postings, and through local and regional press media. After an opportunity for public review, a final EIS/GMP would be prepared. As a delegated EIS, the official responsible for the final decision on the plan update is the Regional Director, Pacific West Region; subsequently the official responsible for implementation of the updated GMP would be the Superintendent, Joshua Tree National Park.

Dated: April 5, 2010.
Cicely A. Muldoon,
Acting Regional Director, Pacific West Region.

[FR Doc. 2010-11955 Filed 5-18-10; 8:45 am]

BILLING CODE 4310-EK-P